DEPARTMENT OF HOMELAND SECURITY

Federal Emergency Management Agency

[Docket ID: FEMA-2013-0030; OMB No. 1660-0046]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 16, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Emergency Management Institute (EMI) Independent Study Course Enrollment Application.

Type of information collection: Revision of a currently approved information collection.

Form Titles and Numbers: FEMA Form 064-0-9, Emergency Management Institute (EMI) Independent Study Course Enrollment Application.

Abstract: The EMI Independent Study program office collects data from FEMA Form 064-0-9 to create and update student records and provide students with credit for training completion. The system also allows FEMA to track completions and failures of course exams. The data on the electronic form will be encrypted and sent to the server to be parsed into the Independent Study database.

Affected Public: Individuals and households, business or other for-profit, not for profit institutions, farms, Federal government, State, local or tribal government.

Estimated Number of Respondents: 2,148,746.

Estimated Total Annual Burden Hours: 4,297,492.

Estimated Cost: There are no annual capital, start-up, and operation or maintenance costs associated with this collection.

Dated: November 7, 2013.
Charlene D. Myrthil,
Director, Records Management Division, Mission Support Bureau, Federal Emergency Management Agency, Department of Homeland Security.

[FR Doc. 2013-27264 Filed 11-13-13; 8:45 am]

BILLING CODE 9111-72-P